EXPORT-IMPORT BANK OF THE UNITED STATES

[Public Notice: 2021-6025]

Agency Information Collection Activities: Comment Request

AGENCY: Export-Import Bank of the United States.

ACTION: Submission for OMB review and comments request.

SUMMARY: The Export-Import Bank of the United States (EXIM Bank), as part of its continuing effort to reduce paperwork and respondent burden, invites the general public and other Federal Agencies to comment on the proposed information collection, as required by the Paperwork Reduction Act of 1995. FORM TITLE: EIB 84-01 Application for Export Working Capital Guarantee.

DATES: Comments must be received on or before October 18, 2021 to be assured of consideration.

ADDRESSES: Comments may be submitted electronically on WWW.REGULATIONS.GOV (EIB 10-02) or by email tara.pender@exim.gov, or by mail to Tara Pender, Export-Import Bank of the United States, 811 Vermont Ave. NW, Washington, DC. The application tool can be reviewed at: https://www.exim.gov/sites/default/files/forms/eib84-01.pdf.

FOR FURTHER INFORMATION CONTACT: To request additional information, please Tara Pender, 202-565-3655.

SUPPLEMENTARY INFORMATION: Title and Form Number: EIB 84-01 Application for Export Working Capital Guarantee.

OMB Number: 3048-0013.

Type of Review: Renewal.

Need and Use: This form provides EXIM Bank staff with the information necessary to determine if the application and transaction is eligible for EXIM Bank assistance under their export working capital guarantee program.

Affected Public: This form affects entities involved in the export of U.S. goods and services.

EXIM Bank

Annual Number of Respondents: 200.

Estimated Time per Respondent: 2 hours.

Annual Burden Hours: 400 hours.

Frequency of Reporting of Use: Annually.

Government Expenses:

EXIM Bank

Reviewing Time per Year: 300 hours.

Average Wages per Hour: $42.50.

Average Cost per Year: $12,750.00 (time*wages).

Benefits and Overhead: 20%.

Total Government Cost: $15,300.00.

Bassam Doughman,
IT Project Manager, Office of the Chief Information Officer.

[FR Doc. 2021-17655 Filed 8-17-21; 8:45 am]

BILLING CODE 6690-01-P